ENVIRONMENTAL PROTECTION AGENCY

[EPA-HQ-OAR-2015-0341; FRL-9962-92-OAR]

Notice of Availability of Two Updated Chapters in the Environmental Protection Agency's Air Pollution Control Cost Manual

AGENCY: Environmental Protection Agency (EPA).

ACTION: Notice of availability and public comment period.

SUMMARY: The Environmental Protection Agency (EPA) is providing notice that two chapters of the current EPA Air Pollution Control Cost Manual (Control Cost Manual) have been updated. The EPA is requesting comment on: Chapter 1, Section 3 and Section 3.1, “Carbon Adsorbers,” and Chapter 1, Section 3 and Section 3.2, “Flares.” These two Control Cost Manual chapters cover control measures for volatile organic compound (VOC) emissions.

DATES: Comments must be received on or before October 19, 2017. Please refer to SUPPLEMENTARY INFORMATION for additional information on submitting comments on the provided data.

ADDRESSES: Submit your comments, identified by Docket ID No. EPA-HQ-OAR-2015-0341, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit http://www2.epa.gov/dockets/commenting-epa-dockets.

FOR FURTHER INFORMATION CONTACT: Larry Sorrels, Health and Environmental Impacts Division, Environmental Protection Agency, C439-02, 109 T.W. Alexander Drive, Research Triangle Park, NC 27709; telephone number: (919) 541-5041; fax number: (919) 541-0839; email address: sorrels.larry@epa.gov.

SUPPLEMENTARY INFORMATION: The EPA is requesting comment on the specific Control Cost Manual chapters included in this notice.

I. General Information

A. What should I consider as I prepare my comments for the EPA?

1. Submitting CBI. Do not submit this information to the EPA through www.regulations.gov or email. Clearly mark the part or all of the information that you claim to be CBI. For CBI information in a disk or CD-ROM that you mail to the EPA docket office, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulation (CFR) part 2.

2. Tips for Preparing your Comments. When submitting comments, remember to: Identify the notification by docket number and other identifying information (subject heading, Federal Register date and page number).

• Follow directions—The agency may ask you to respond to specific questions or organize comments by referencing a CFR part or section number.

• Explain why you agree or disagree; suggest alternatives and substitute language/data for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Information Available for Public Comment

The EPA is requesting comment on two updated chapters of the EPA Air Pollution Control Cost Manual. The Control Cost Manual contains individual chapters on control measures, including data and equations to aid users in estimating capital costs for installation and annual costs for operation and maintenance of these measures. The Control Cost Manual is used by the EPA for estimating the impacts of rulemakings, and serves as a basis for sources to estimate costs of controls that are Best Available Control Technology under the New Source Review Program, and Best Available Retrofit Technology under the Regional Haze Program and for other programs.

The two updated Control Cost Manual chapters are: Chapter 1, Section 3 and Section 3.1, Carbon Adsorbers; Chapter 1, Section 3 and Section 3.2, Flares. These two revised Control Cost Manual chapters can be found in the docket for the Control Cost Manual update (Docket ID No. EPA-HQ-OAR-2015-0341). The current Control Cost Manual version (sixth edition) is available at http://epa.gov/ttn/catc/products.html#cccinfo, and was last updated in 2003. The Consolidated Appropriations Act of 2014 requested that the EPA begin development of a seventh edition of the Control Cost Manual. The EPA has met with state, local, and tribal officials to discuss plans for the Control Cost Manual update as called for under the Consolidated Appropriations Act of 2014. The EPA has met with other groups as well at their request. The EPA has recently updated the selective non-catalytic reduction (SNCR) and selective catalytic reduction (SCR) chapters, the first two chapters (Chapter 1, Section 4; Chapter 2, Section 4, respectively) completed for the seventh edition of the Control Cost Manual, and made them available to the public in May 2016 (81 FR 38702, June 14, 2016). In addition, the EPA has submitted updated draft versions of the Refrigerated Condensers (Chapter 1, Section 3 and Section 3.1) and Incinerators (Chapter 2, Section 3, Section 3.2, now Incinerators/Oxidizers) chapters and the Cost Estimation: Concepts and Methodology chapter (Chapter 2, Section 1) as part of a notice released on September 22, 2016 (81 FR 65352). The Agency is currently reviewing comments submitted in response to the NODA, and will finalize these three chapters in the near future.

To help focus review of the Carbon Adsorbers (Chapter 1, Section 3, and Section 3.1) and Flares (Chapter 1, Section 3 and Section 3.2) chapters, we offer the following list of questions that the EPA is particularly interested in addressing in the updated chapters. Commenters are welcome to address any aspects of these chapters. Please provide supporting data for responses to these questions and for other comments on the chapters.

For the Carbon Adsorbers chapter:

(1) What is a reasonable estimate of equipment life (defined as design or operational life) for this control measure?

(2) Is the description of carbon adsorbers complete, up to date, and accurate, particularly with regard to control of VOC?

(3) Are the cost correlations, factors, and equations for carbon adsorbers accurate? If not, how should they be revised? Please provide data, if possible, to address inaccuracies.

(4) Are the estimates of VOC removal or control efficiency for carbon adsorbers accurate? If not, what are more accurate estimates? Please provide data, if possible, to address inaccuracies.

For the Flares chapter:

(1) What is a reasonable estimate of equipment life (defined as design or operational life) for this control measure?

(2) Is the description of flares technology complete, up to date, and accurate?

(3) Are the cost correlations, factors, and equations for flares accurate? If not, how should they be revised? Please provide data, if possible, to address inaccuracies.

(4) Are the estimates of flares VOC destruction efficiency accurate? If not, what are more accurate estimates? Please provide data, if possible, to address inaccuracies.

Dated: May 23, 2017.
Stephen Page,
Director, Office of Air Quality Planning and Standards.

[FR Doc. 2017-15344 Filed 7-20-17; 8:45 am]

BILLING CODE 6560-50-P